POSTAL SERVICE

Transfer of Inbound Letter Post Small Packets and Bulky Letters, and Inbound Registered Service Associated With Such Items, to Competitive Product List

AGENCY: Postal Service™.

ACTION: Notice.

SUMMARY: The Postal Service hereby provides notice that it has filed a request with the Postal Regulatory Commission to transfer Inbound Letter Post small packets and bulky letters, and inbound registered service associated with such items, from the market-dominant product list to the competitive product list.

DATES: Date of notice: November 23, 2018.

FOR FURTHER INFORMATION CONTACT: Anthony F. Alverno, 202-268-2997.

SUPPLEMENTARY INFORMATION: On November 16, 2018, the United States Postal Service® filed with the Postal Regulatory Commission the United States Postal Service Request to Transfer Inbound Letter Post Small Packets and Bulky Letters, and Inbound Registered Service Associated with Such Items, to the Competitive Product List, pursuant to 39 U.S.C. 3642. Documents pertinent to this request are available at http://www.prc.gov, Docket No. MC2019-17.

Christopher C. Meyerson,
Attorney, Corporate and Postal Business Law.

[FR Doc. 2018-25429 Filed 11-21-18; 8:45 am]

BILLING CODE 7710-12-P